DEPARTMENT OF HEALTH AND HUMAN SERVICES

Health Information Technology Standards Committee Advisory Meeting: Notice of Meeting

AGENCY: Office of the National Coordinator for Health Information Technology, HHS.

ACTION: Notice of meeting.

This notice announces forthcoming meetings of a public advisory committee of the Office of the National Coordinator for Health Information Technology (ONC). These meetings will be open to the public.

Name of Committee: Health IT Standards Committee.

General Function of the Committee: To provide recommendations to the National Coordinator on standards, implementation specifications, and certification criteria for the electronic exchange and use of health information for purposes of adoption, consistent with the implementation of the Federal Health IT Strategic Plan, and in accordance with policies developed by the Health IT Policy Committee.

2015 Meeting Dates and Times:

• January 28, 2015, from 9:30 a.m. to 3:00 p.m./Eastern Time

• February 25, 2015, from 9:30 a.m. to 3:00 p.m./Eastern Time

• March 18, 2015, from 9:30 a.m. to 3:00 p.m./Eastern Time

• April 22, 2015, from 9:30 a.m. to 3:00 p.m./Eastern Time

• May 20, 2015, from 9:30 a.m. to 3:00 p.m./Eastern Time

• June 24, 2015, from 9:30 a.m. to 3:00 p.m./Eastern Time

• July 29, 2015, from 9:30 a.m. to 3:00 p.m./Eastern Time

• August 26, 2015, from 9:30 a.m. to 3:00 p.m./Eastern Time

• September 22, 2015, from 9:30 a.m. to 3:00 p.m./Eastern Time

• October 28, 2015, from 9:30 a.m. to 3:00 p.m./Eastern Time

• November 24, 2015, from 9:30 a.m. to 3:00 p.m./Eastern Time

• December 16, 2015, from 9:30 a.m. to 3:00 p.m./Eastern Time

For meeting locations, web conference information, and the most up-to-date information, please visit the calendar on the ONC Web site, http://www.healthit.gov/FACAS/calendar.

Contact Person: Michelle Consolazio, Office of the National Coordinator, HHS, 355 E Street SW., Washington, DC 20024, 781-710-0786, Fax: 202-690-6079, email: michelle.consolazio@hhs.gov. Please email Michelle Consolazio for up-to-date information on these meetings. A notice in the Federal Register about last minute modifications that impact a previously announced advisory committee meeting cannot always be published quickly enough to provide timely notice.

Agenda: The committee will hear reports from its workgroups and updates from ONC and other Federal agencies. ONC intends to make background material available to the public no later than 24 hours prior to the meeting start time. If ONC is unable to post the background material on its Web site prior to the meeting, it will be made publicly available at the location of the advisory committee meeting, and the background material will be posted on ONC's Web site after the meeting, at http://www.healthit.gov/FACAS/health-it-standards-committee

Procedure: Interested persons may present data, information, or views, orally or in writing, on issues pending before the Committee. Written submissions may be made to the contact person prior to the meeting date. Oral comments from the public will be scheduled prior to the lunch break and at the conclusion of each meeting. Time allotted for each presentation will be limited to three minutes. If the number of speakers requesting to comment is greater than can be reasonably accommodated during the scheduled open public session, ONC will take written comments after the meeting.

Persons attending ONC's advisory committee meetings are advised that the agency is not responsible for providing wireless access or access to electrical outlets.

ONC welcomes the attendance of the public at its advisory committee meetings. Seating is limited at the location, and ONC will make every effort to accommodate persons with physical disabilities or special needs. If special accommodations are required, please contact Michelle Consolazio at least seven (7) days in advance of the meeting.

Notice of this meeting is given under the Federal Advisory Committee Act (Pub. L. 92-463, 5 U.S.C., App. 2).

Dated: October 22, 2014.
Michelle Consolazio,
FACA Lead, Office of Policy, Office of the National Coordinator for Health Information Technology.

[FR Doc. 2014-26059 Filed 10-31-14; 8:45 am]

BILLING CODE 4150-45-P